DEPARTMENT OF AGRICULTURE

Foreign Agricultural Service

Trade Adjustment Assistance for Farmers

AGENCY: Foreign Agricultural Service, USDA.

ACTION: Notice.

On March 22, 2007, the Administrator, Foreign Agricultural Service (FAS), denied a petition for trade adjustment assistance (TAA) that was filed on February 16, 2007, by the Burley Tobacco Growers Cooperative Association and the Burley Stabilization Corporation, representing burley tobacco producers in Kentucky, Tennessee, Virginia, North Carolina, West Virginia, Indiana, Ohio, and Missouri.

SUPPLEMENTARY INFORMATION: Upon investigation, the Administrator determined the predominant reason for the decline in the burley tobacco price was the termination of the Tobacco Buyout Program in 2005, and that imports did not contribute importantly to the decline in price. Therefore, the burley tobacco petition did not meet the statutory requirement that imports contributed importantly to a decline in producer price.

FOR FURTHER INFORMATION, CONTACT: Jean-Louis Pajot, Coordinator, Trade Adjustment Assistance for Farmers, FAS, USDA, (202) 720-2916, e-mail: trade.adjustment@fas.usda.gov.

Dated: March 23, 2007.
W. Kirk Miller,
Administrator, Foreign Agricultural Service.

[FR Doc. E7-6468 Filed 4-5-07; 8:45 am]

BILLING CODE 3410-10-P